ENVIRONMENTAL PROTECTION AGENCY

[FRL-7125-8]

Agency Information Collection Activities; Proposed Collection; Comment Request; Public Water Systems Supervision Program: Public Notification Amendment

AGENCY: Environmental Protection Agency (EPA).

ACTION: Notice.

SUMMARY: In compliance with the Paperwork Reduction Act (44 U.S.C. 3501 et seq., this notice announces that EPA is planning to submit the following continuing Information Collection Request (ICR) to the Office of Management and Budget (OMB): Public Water Systems Supervision (PWSS) Program ICR: Public Notification Amendment, EPA No. 270.41; OMB No. 2040-0090. The current Public Notification ICR approval expires on 06/30/2002. Before submitting the ICR to OMB for review and approval, EPA is soliciting comments on the existing information collection as described below.

DATES: Comments must be submitted on or before March 5, 2002.

ADDRESSES: To obtain a copy of the draft Public Notification Amendment to the PWSS ICR without charge, please contact the Safe Drinking Water Hotline (800-426-4791). Hours of operation are 9 a.m. to 5:30 p.m. (ET), Monday-Friday, excluding Federal holidays. Copies are also available from the Office of Water Resource Center (RC4100), U.S. EPA Headquarters, 401 M Street SW., Washington, DC 20460. People interested in getting information or making comments about the Public Notification Amendment to the PWSS ICR should direct inquiries or comments to the Office of Ground Water and Drinking Water, Drinking Water Protection Branch, Mail Code 4606M, 1200 Pennsylvania Avenue, NW., Washington, DC 20460.

FOR FURTHER INFORMATION CONTACT: Lisa Christ (202) 564-8354, fax (202) 564-3755, E-mail: christ.lisa@epa.gov.

SUPPLEMENTARY INFORMATION: Affected entities: Entities potentially affected by this action are Public Water Systems, primacy agents including regulators in the States, Puerto Rico, the U.S. Trust Territories; Indian Tribes and Alaska Native Villages, and in some instances, U. S. EPA Regional Administrators and staff.

Title: Information Collection Request for Public Water Systems Supervision Program: Public Notification Amendment. The current Public Notification ICR (EPA No. 1898.02; OMB No. 2040-0209) expires June 30, 2002.

Abstract: The 2001 PWSS Program ICR is the result of a consolidation of some rules and activities covered in the 1993 PWSS ICR and activities and rules previously covered in other OGWDW standalone ICRs. The current Public Notification ICR will be renewed as an amendment to the 2001 PWSS Program ICR. This ICR amendment revises the burden estimate for public notification regulations, as required by sections 1414(a)(1) and (a)(2) of the Safe Drinking Water Act. Public water systems are required to give notification to all persons served when a violation of EPA drinking water standards occurs and for other situations posing a risk to health. EPA regulations define the form, manner, frequency, and content of the notices. Ensuring implementation of these requirements by public water systems is principally a responsibility of the States, territories and tribe that have assumed primary enforcement responsibility (primacy) for public water systems under SDWA section 1413.

An Agency may not conduct or sponsor and a person is not required to respond to, a collection of information if it does not display a currently valid OMB control number. The OMB control numbers for EPA's regulations are listed in 40 CFR part 9 and 48 CFR chapter 15.

The EPA would like to solicit comments to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and, (iv) minimize the burden of the collection of information on those who are to respond, including through the use of appropriate automated electronic, mechanical, or other technological collection techniques or other forms of information technology (e.g., permitting electronic submission of responses).

Burden Statement: The estimated burden for Public Notification is approximately: 51,449 responses per year; 748,811 hours per year; and $4.035 million per year of total cost.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. Any recommendations from the drinking water community and the general public on this issue will be given consideration by the Agency.

Dated: December 21, 2001.
William R. Diamond,
Director, Drinking Water Protection Division.

[FR Doc. 02-222 Filed 1-3-02; 8:45 am]

BILLING CODE 6560-50-P